DEPARTMENT OF ENERGY

Federal Energy Regulatory Commission

[Project No. 460-066]

Tacoma Power; Errata Notice

On September 11, 2012, the Commission issued a Notice of Application for Amendment of License and Soliciting Comments, Motions to Intervene, and Protests for the Cushman Hydroelectric Project (FERC No. 460-066). The notice of application is now revised to read as follows:

(1.) The heading is changed to read:

Notice of Application Accepted for Filing, Soliciting Comments, Motions To Intervene, and Protests.

Dated: September 13, 2012.
Kimberly D. Bose,
Secretary.

[FR Doc. 2012-23219 Filed 9-19-12; 8:45 am]

BILLING CODE 6717-01-P